DEPARTMENT OF ENERGY

Federal Energy Regulatory Commission

Combined Notice of Filings

Take notice that the Commission has received the following Natural Gas Pipeline Rate and Refund Report filings:

Filings Instituting Proceedings

Docket Numbers: RP12-1071-000.

Applicants: Vector Pipeline L.P.

Description: NAESB 2.0 Compliance Filing to be effective 12/1/2012.

Filed Date: 9/27/12.

Accession Number: 20120927-5025.

Comments Due: 5 p.m. ET 10/9/12.

Docket Numbers: RP12-1072-000.

Applicants: Golden Triangle Storage, Inc.

Description: Proposed Revisions to FERC Gas Tariff to Comply With Order No. 587-V to be effective 12/1/2012.

Filed Date: 9/27/12.

Accession Number: 20120927-5032.

Comments Due: 5 p.m. ET 10/9/12.

Docket Numbers: RP12-1074-000.

Applicants: Dominion Transmission, Inc.

Description: DTI—Northeast Expansion (CP11-39) Incremental Rate to be effective 11/1/2012.

Filed Date: 9/27/12.

Accession Number: 20120927-5051.

Comments Due: 5 p.m. ET 10/9/12.

Docket Numbers: RP12-1075-000.

Applicants: Arlington Storage Company, LLC.

Description: Arlington Storage Company, LLC—Order No. 587-V Compliance Filing to be effective 12/1/2012.

Filed Date: 9/27/12.

Accession Number: 20120927-5073.

Comments Due: 5 p.m. ET 10/9/12.

Docket Numbers: RP12-1076-000.

Applicants: Transcontinental Gas Pipe Line Company.

Description: Order No. 587-V Compliance (NAESB 2.0) to be effective 12/1/2012.

Filed Date: 9/27/12.

Accession Number: 20120927-5075.

Comments Due: 5 p.m. ET 10/9/12.

Docket Numbers: RP12-1077-000.

Applicants: Natural Gas Pipeline Company of America.

Description: Twin Eagle Negotiated Rate to be effective 10/1/2012.

Filed Date: 9/27/12.

Accession Number: 20120927-5091.

Comments Due: 5 p.m. ET 10/9/12.

Docket Numbers: RP12-1078-000.

Applicants: Young Gas Storage Company, Ltd.

Description: Young Gas Storage Company, Ltd.'s Operational Purchases and Sales Annual Report.

Filed Date: 9/27/12.

Accession Number: 20120927-5097.

Comments Due: 5 p.m. ET 10/9/12.

Docket Numbers: RP12-1079-000.

Applicants: Central New York Oil And Gas, L.L.C.

Description: Central New York Oil And Gas Company, LLC—Order No. 587-V Compliance Filing to be effective 12/1/2012.

Filed Date: 9/27/12.

Accession Number: 20120927-5121.

Comments Due: 5 p.m. ET 10/9/12.

Docket Numbers: RP12-1080-000.

Applicants: Steuben Gas Storage Company.

Description: Steuben Gas Storage Company—Order No. 587-V Compliance Filing to be effective 12/1/2012.

Filed Date: 9/27/12.

Accession Number: 20120927-5134.

Comments Due: 5 p.m. ET 10/9/12.

Docket Numbers: RP12-1081-000.

Applicants: Kinder Morgan Illinois Pipeline LLC.

Description: Order No. 587-V Compliance Filing to be effective 12/1/2012.

Filed Date: 9/27/12.

Accession Number: 20120927-5152.

Comments Due: 5 p.m. ET 10/9/12.

Docket Numbers: RP12-1082-000.

Applicants: Guardian Pipeline, L.L.C.

Description: EPC Semi Annual Adjustment—Fall 2012 to be effective 11/1/2012.

Filed Date: 9/27/12.

Accession Number: 20120927-5177.

Comments Due: 5 p.m. ET 10/9/12.

Docket Numbers: RP12-1083-000.

Applicants: ANR Pipeline Company.

Description: Integrys Energy Services to be effective 10/1/2012.

Filed Date: 9/27/12.

Accession Number: 20120927-5179.

Comments Due: 5 p.m. ET 10/9/12.

Docket Numbers: RP12-1084-000.

Applicants: Midcontinent Express Pipeline LLC.

Description: Order No. 587-V Compliance Filing to be effective 12/1/2012.

Filed Date: 9/27/12.

Accession Number: 20120927-5180.

Comments Due: 5 p.m. ET 10/9/12.

Docket Numbers: RP12-1085-000.

Applicants: Equitrans, L.P.

Description: NAESB 2.0 Order No. 587-V Compliance Filing to be effective 12/1/2012.

Filed Date: 9/27/12.

Accession Number: 20120927-5184.

Comments Due: 5 p.m. ET 10/9/12.

Docket Numbers: RP12-1086-000.

Applicants: Pine Needle LNG Company, LLC.

Description: Pine Needle Order No. 587-V Compliance (NAESB 2.0) to be effective 12/1/2012.

Filed Date: 9/27/12.

Accession Number: 20120927-5185.

Comments Due: 5 p.m. ET 10/9/12.

Docket Numbers: RP12-1087-000.

Applicants: Horizon Pipeline Company, L.L.C.

Description: Order No. 587-V Compliance Filing to be effective 12/1/2012.

Filed Date: 9/27/12.

Accession Number: 20120927-5188.

Comments Due: 5 p.m. ET 10/9/12.

Docket Numbers: RP12-1088-000.

Applicants: Trailblazer Pipeline Company LLC.

Description: 2012-09-28 Negotiated Rate Filing BP—Permanent Replacement to be effective 10/1/2012.

Filed Date: 9/28/12.

Accession Number: 20120928-5000.

Comments Due: 5 p.m. ET 10/10/12.

Docket Numbers: RP12-1089-000.

Applicants: Trailblazer Pipeline Company LLC.

Description: NAESB 2.0 to be effective 12/1/2012.

Filed Date: 9/28/12.

Accession Number: 20120928-5001.

Comments Due: 5 p.m. ET 10/10/12.

Docket Numbers: RP12-1090-000.

Applicants: Rockies Express Pipeline LLC.

Description: NAESB 2.0 to be effective 12/1/2012.

Filed Date: 9/28/12.

Accession Number: 20120928-5002.

Comments Due: 5 p.m. ET 10/10/12.

Docket Numbers: RP12-1091-000.

Applicants: Kinder Morgan Interstate Gas Transmissio.

Description: NAESB 2.0 Filing to be effective 12/1/2012.

Filed Date: 9/28/12.

Accession Number: 20120928-5004.

Comments Due: 5 p.m. ET 10/10/12.

Docket Numbers: RP12-1092-000.

Applicants: Kinder Morgan Louisiana Pipeline LLC.

Description: Order No. 587-V Compliance Filing to be effective 12/1/2012.

Filed Date: 9/28/12.

Accession Number: 20120928-5005.

Comments Due: 5 p.m. ET 10/10/12.

Docket Numbers: RP12-1094-000.

Applicants: Bobcat Gas Storage.

Description: Order 587-V Compliance Filing (NAESB Version 2.0 Standards) BGS to be effective 12/1/2012.

Filed Date: 9/28/12.

Accession Number: 20120928-5024.

Comments Due: 5 p.m. ET 10/10/12.

Docket Numbers: RP12-1095-000.

Applicants: East Tennessee Natural Gas, LLC.

Description: Order 587-V Compliance Filing (NAESB Version 2.0 Standards) ETNG to be effective 12/1/2012.

Filed Date: 9/28/12.

Accession Number: 20120928-5025.

Comments Due: 5 p.m. ET 10/10/12.

Docket Numbers: RP12-1096-000.

Applicants: Egan Hub Storage, LLC.

Description: Order 587-V Compliance Filing (NAESB Version 2.0 Standards) Egan to be effective 12/1/2012.

Filed Date: 9/28/12.

Accession Number: 20120928-5026.

Comments Due: 5 p.m. ET 10/10/12.

Docket Numbers: RP12-1097-000.

Applicants: Ozark Gas Transmission, L.L.C.

Description: Order 587-V Compliance Filing (NAESB Version 2.0 Standards) OGT to be effective 12/1/2012.

Filed Date: 9/28/12.

Accession Number: 20120928-5027.

Comments Due: 5 p.m. ET 10/10/12.

Docket Numbers: RP12-1098-000.

Applicants: Gas Transmission Northwest LLC.

Description: Medford E-2 Rate Adjustment to be effective 11/1/2012.

Filed Date: 9/28/12.

Accession Number: 20120928-5028.

Comments Due: 5 p.m. ET 10/10/12.

Docket Numbers: RP12-1099-000.

Applicants: Saltville Gas Storage Company L.L.C.

Description: Order 587-V Compliance Filing (NAESB Version 2.0 Standards) SGSC to be effective 12/1/2012.

Filed Date: 9/28/12.

Accession Number: 20120928-5030.

Comments Due: 5 p.m. ET 10/10/12.

Docket Numbers: RP12-1102-000.

Applicants: Dominion Transmission, Inc.

Description: DTI—2012 Annual EPCA to be effective 11/1/2012.

Filed Date: 9/28/12.

Accession Number: 20120928-5031.

Comments Due: 5 p.m. ET 10/10/12.

Docket Numbers: RP12-1103-000.

Applicants: Dominion Transmission, Inc.

Description: DTI—2012 Annual TCRA to be effective 11/1/2012.

Filed Date: 9/28/12.

Accession Number: 20120928-5032.

Comments Due: 5 p.m. ET 10/10/12.

Docket Numbers: RP12-1104-000.

Applicants: Honeoye Storage Corporation.

Description: Volume No. 1A NAESB Order 587V December 1 2012 to be effective 9/27/2012.

Filed Date: 9/28/12.

Accession Number: 20120928-5033.

Comments Due: 5 p.m. ET 10/10/12.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 28, 2012.
Nathaniel J. Davis, Sr.,
Deputy Secretary.

[FR Doc. 2012-24605 Filed 10-4-12; 8:45 am]

BILLING CODE 6717-01-P